NUCLEAR REGULATORY COMMISSION

[NRC-2012-0121]

Portable Gauge Licenses

AGENCY: Nuclear Regulatory Commission.

ACTION: Draft NUREG; request for comments.

SUMMARY: The U.S. Nuclear Regulatory Commission (NRC or the Commission) is revising its licensing guidance for portable gauge licensees. The NRC is requesting public comment on NUREG-1556, Volume 1, Revision 2, “Consolidated Guidance About Materials Licenses: Program-Specific Guidance About Portable Gauge Licenses.” The document has been updated to include safety culture, security of radioactive materials, protection of sensitive information, a revised appendix on training for portable gauge users, and changes in regulatory policies and practices. This document is intended for use by applicants, licensees, and the NRC staff and will also be available to Agreement States.

DATES: Submit comments by June 29, 2012. Comments received after this date will be considered if it is practical to do so, but the NRC is able to assure consideration only for comments received on or before this date.

ADDRESSES: You may access information and comment submissions related to this document, which the NRC possesses and are publicly available, by searching on http://www.regulations.gov under Docket ID NRC-2012-0121. You may submit comments by the following methods:

• Federal Rulemaking Web site: Go to http://www.regulations.gov and search for Docket ID NRC-2012-0121. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Tomas Herrera, Division of Materials Safety and State Agreements, Office of Federal and State Materials and Environmental Management Programs; U.S. Nuclear Regulatory Commission, Washington, DC 20555-0001; telephone: 301-415-7138; email: Tomas.Herrera@nrc.gov.

SUPPLEMENTARY INFORMATION:

I. Accessing Information and Submitting Comments

A. Accessing Information

Please refer to Docket ID NRC-2012-0121 when contacting the NRC about the availability of information regarding this document. You may access information related to this document, which the NRC possesses and are publicly available, by the following methods:

• Federal Rulemaking Web Site: Go to http://www.regulations.gov and search for Docket ID NRC-2012-0121.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The NUREG-1556, Volume 1, Revision 2, is under ADAMS Accession Number ML12139A008. The document will also be posted on the NRC's public Web site on the: (1) “Consolidated Guidance About Materials Licenses (NUREG-1556)” page at http://www.nrc.gov/reading-rm/doc-collections/nuregs/staff/sr1556/; and (2) “Draft NUREG-Series Publications for Comment” page at http://www.nrc.gov/reading-rm/doc-collections/nuregs/docs4comment.html.

• NRC's PDR: You may examine and purchase copies of public documents at the NRC's PDR, Room O1-F21, One White Flint North, 11555 Rockville Pike, Rockville, Maryland 20852.

B. Submitting Comments

Please include Docket ID NRC-2012-0121 in the subject line of your comment submission, in order to ensure that the NRC is able to make your comment submission available to the public in this docket.

The NRC cautions you not to include identifying or contact information that you do not want publicly disclosed in your comment submission. The NRC will post all comment submissions at http://www.regulations.gov as well as enter the comment submissions into ADAMS, and the NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Specific Questions for Public Comment

The NRC welcomes comments on all aspects of this draft NUREG and is especially interested in receiving comments on the examples and pictures used in Appendix G, “Operation, Emergency, and Security Procedures,” to demonstrate the security requirements in Title 10 of the Code of Federal Regulations (10 CFR) 30.34(i). The NRC would like comments on the following questions regarding the examples and pictures in Appendix G:

1. Do the examples for two independent physical controls provide helpful guidance to licensees? Please provide information to support your response.

2. Are the pictures in the appendix helpful in demonstrating how to secure a portable gauge in a vehicle? Please provide information to support your response.

Dated at Rockville, Maryland, this 22nd day of May 2012.
For the Nuclear Regulatory Commission.
Brian J. McDermott,
Director, Division of Materials Safety and State Agreements, Office of Federal and State Materials and Environmental Management Programs.

[FR Doc. 2012-13045 Filed 5-29-12; 8:45 am]

BILLING CODE 7590-01-P